DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Federal Emergency Management Agency, Department of Homeland Security.

State and county | Location and case No. | Chief executive officer of community | Community map repository | Date of modification | Community No.
Colorado:
Arapahoe (FEMA Docket No.: B-2244). | City of Aurora (21-08-1079P). | The Honorable Mike Coffman, Mayor, City of Aurora, 15151 East Alameda Parkway, Aurora, CO 80012. | Public Works Department, 15151 East Alameda Parkway, Aurora, CO 80012. | Sep. 2, 2022 | 080002
Arapahoe (FEMA Docket No.: B-2239). | City of Centennial (21-08-0915P). | The Honorable Stephanie Piko, Mayor, City of Centennial, 13113 East Arapahoe Road, Centennial, CO 80112. | Southeast Metro Stormwater Authority, 7437 South Fairplay Street, Centennial, CO 80112. | Sep. 2, 2022 | 080315
Arapahoe (FEMA Docket No.: B-2239). | City of Centennial (22-08-0055P). | The Honorable Stephanie Piko, Mayor, City of Centennial, 13113 East Arapahoe Road, Centennial, CO 80112. | Southeast Metro Stormwater Authority, 7437 South Fairplay Street, Centennial, CO 80112. | Sep. 2, 2022 | 080315
Arapahoe (FEMA Docket No.: B-2239). | Unincorporated areas of Arapahoe County (21-08-0915P). | The Honorable Nancy Jackson, Chair, Arapahoe County Board of Commissioners, 5334 South Prince Street, Littleton, CO 80120. | Arapahoe County Public Works and Development Department, 6924 South Lima Street, Centennial, CO 80112. | Sep. 2, 2022 | 080011
Douglas (FEMA Docket No.: B-2239). | Town of Castle Rock (21-08-0797P). | The Honorable Jason Gray, Mayor, Town of Castle Rock, 100 North Wilcox Street, Castle Rock, CO 80104. | Stormwater Department, 175 Kellogg Court, Castle Rock, CO 80109. | Aug. 26, 2022 | 080050
Douglas (FEMA Docket No.: B-2239). | Town of Parker (21-08-0915P). | The Honorable Jeff Toborg, Mayor, Town of Parker, 20120 East Main Street, Parker, CO 80138. | Public Works and Engineering Department, 20120 East Main Street, Parker, CO 80138. | Sep. 2, 2022 | 080310
Douglas (FEMA Docket No.: B-2239). | Unincorporated areas of Douglas County (21-08-0545P). | The Honorable Lora A. Thomas, Chair, Douglas County Board of Commissioners, 100 3rd Street, Castle Rock, CO 80104. | Douglas County Public Works Department, Engineering Division, 100 3rd Street, Castle Rock, CO 80104. | Sep. 2, 2022 | 080049
Larimer (FEMA Docket No.: B-2244). | Unincorporated areas of Larimer County (21-08-0460P). | The Honorable John Kefalas, Chair, Larimer County Board of Commissioners, 200 West Oak Street, Suite 2200, Fort Collins, CO 80521. | Larimer County Engineering Department, 200 West Oak Street, Suite 3000, Fort Collins, CO 80521. | Aug. 18, 2022 | 080101
Florida:
Monroe (FEMA Docket No.: B-2244). | Village of Islamorada (22-04-1253P). | The Honorable Pete Bacheler, Mayor, Village of Islamorada, 86800 Overseas Highway, Islamorada, FL 33036. | Building Department, 86800 Overseas Highway, Islamorada, FL 33036. | Sep. 1, 2022 | 120424
Monroe (FEMA Docket No.: B-2244). | Village of Islamorada (22-04-2190P). | The Honorable Pete Bacheler, Mayor, Village of Islamorada, 86800 Overseas Highway, Islamorada, FL 33036. | Building Department, 86800 Overseas Highway, Islamorada, FL 33036. | Aug. 29, 2022 | 120424
Orange (FEMA Docket No.: B-2239). | City of Orlando (20-04-1937P). | The Honorable Buddy W. Dyer, Mayor, City of Orlando, 400 South Orange Avenue, Orlando, FL 32801. | Public Works Department, 400 South Orange Avenue, 8th Floor, Orlando, FL 32801. | Aug. 29, 2022 | 120186
Orange (FEMA Docket No.: B-2239). | Unincorporated areas of Orange County (20-04-1937P). | The Honorable Jerry L. Demings, Mayor, Orange County, 201 South Rosalind Avenue, 5th Floor, Orlando, FL 32801. | Orange County Public Works Department, Stormwater Management Division, 4200 South John Young Parkway, Orlando, FL 32839. | Aug. 29, 2022 | 120179
Osceola (FEMA Docket No.: B-2239). | City of St. Cloud (21-04-5676P). | William Sturgeon, City of St. Cloud, Manager, 1300 9th Street, St. Cloud, FL 34769. | Building Department, 1300 9th Street, St. Cloud, FL 34769. | Aug. 19, 2022 | 120191
Osceola (FEMA Docket No.: B-2244). | Unincorporated areas of Osceola County (21-04-4047P). | Don Fisher, Osceola County Manager, 1 Courthouse Square, Suite 4700, Kissimmee, FL 34741. | Osceola County Public Works Department, 1 Courthouse Square, Suite 3100, Kissimmee, FL 34741. | Sep. 2, 2022 | 120189
Osceola (FEMA Docket No.: B-2239). | Unincorporated areas of Osceola County (21-04-5676P). | Don Fisher, Osceola County Manager, 1 Courthouse Square, Suite 4700, Kissimmee, FL 34741. | Osceola County Public Works Department, 1 Courthouse Square, Suite 3100, Kissimmee, FL 34741. | Aug. 19, 2022 | 120189
Pinellas (FEMA Docket No.: B-2239). | City of Madeira Beach (22-04-1911P). | The Honorable John Hendricks, Mayor, City of Madeira Beach, 300 Municipal Drive, Madeira Beach, FL 33708. | Community Development Department, 300 Municipal Drive, Madeira Beach, FL 33708. | Aug. 18, 2022 | 125127
Georgia:
Columbia (FEMA Docket No.: B-2239). | Unincorporated areas of Columbia County (22-04-0098P). | The Honorable Douglas R. Duncan, Jr., Chair, Columbia County Board of Commissioners, P.O. Box 498, Evans, GA 30809. | Columbia County Engineering Services Department, 630 Ronald Reagan Drive, Building A, Evans, GA 30809. | Aug. 18, 2022 | 130059
Gwinnett (FEMA Docket No.: B-2244). | Unincorporated areas of Gwinnett County (21-04-5535P). | The Honorable Nicole Love Hendrickson, Chair, Gwinnett County Board of Commissioners, 75 Langley Drive, Lawrenceville, GA 30046. | Gwinnett County Department of Water Resources, 684 Winder Highway, Lawrenceville, GA 30045. | Aug. 18, 2022 | 130322
Maryland: Montgomery (FEMA Docket No.: B-2239). | Unincorporated areas of Montgomery County (21-03-1260P). | The Honorable Marc Elrich, Montgomery County Executive, 101 Monroe Street, 2nd Floor, Rockville, MD 20850. | Montgomery County Permitting Services Department, 2425 Reedie Drive, 7th Floor, Wheaton, MD 20902. | Aug. 23, 2022 | 240049
Pennsylvania: Chester (FEMA Docket No.: B-2244). | Township of West Pikeland (21-03-1172P). | The Honorable Carin Mifsud, Chair, Township of West Pikeland Board of Supervisors, 1645 Art School Road, Chester Springs, PA 19425. | Township Hall, 1645 Art School Road, Chester Springs, PA 19425. | Aug. 25, 2022 | 421151
Texas:
Bexar (FEMA Docket No.: B-2244). | Unincorporated areas of Bexar County (22-06-0280P). | The Honorable Nelson W. Wolff, Bexar County Judge, 101 West Nueva Street, 10th Floor, San Antonio, TX 78205. | Bexar County Public Works Department, 1948 Probandt Street, San Antonio, TX 78214. | Aug. 29, 2022 | 480035
Dallas (FEMA Docket No.: B-2244). | City of Dallas (21-06-2894P). | The Honorable Eric Johnson, Mayor, City of Dallas, 1500 Marilla Street, Suite 5EN, Dallas, TX 75201. | Oak Cliff Municipal Center, 320 East Jefferson Boulevard, Room 312, Dallas, TX 75203. | Aug. 22, 2022 | 480171
Smith (FEMA Docket No.: B-2239). | City of Tyler (21-06-2507P). | The Honorable Don Warren, Mayor, City of Tyler, P.O. Box 2039, Tyler, TX 75710. | Development Department, 423 West Ferguson Street, Tyler, TX 75702. | Aug. 31, 2022 | 480571
Tarrant (FEMA Docket No.: B-2239). | City of Fort Worth (21-06-1993P). | The Honorable Mattie Parker, Mayor, City of Fort Worth, 200 Texas Street, Fort Worth, TX 76102. | Department of Transportation and Public Works, Engineering Vault and Map Repository, 200 Texas Street, Fort Worth, TX 76102. | Aug. 29, 2022 | 480596
Tarrant (FEMA Docket No.: B-2239). | City of Fort Worth (21-06-2476P). | The Honorable Mattie Parker, Mayor, City of Fort Worth, 200 Texas Street, Fort Worth, TX 76102. | Department of Transportation and Public Works, Engineering Vault and Map Repository, 200 Texas Street, Fort Worth, TX 76102. | Aug. 25, 2022 | 480596
Tarrant (FEMA Docket No.: B-2244). | City of Haslet (21-06-2045P). | The Honorable Gary Hulsey, Mayor, City of Haslet, 101 Main Street, Haslet, TX 76052. | City Hall, 101 Main Street, Haslet, TX 76052. | Sep. 6, 2022 | 480600
Tarrant (FEMA Docket No.: B-2244). | Unincorporated areas of Tarrant County (21-06-2045P). | The Honorable B. Glen Whitley, Tarrant County Judge, 100 East Weatherford Street, Fort Worth, TX 76196. | Tarrant County Administration Building, 100 East Weatherford Street, Fort Worth, TX 76196. | Sep. 6, 2022 | 480582
Williamson (FEMA Docket No.: B-2244). | Unincorporated areas of Williamson County (21-06-3275P). | The Honorable Bill Gravell, Jr., Williamson County Judge, 710 South Main Street, Suite 101, Georgetown, TX 78626. | Williamson County Engineering Department, 3151 Southeast Inner Loop, Georgetown, TX 78626. | Sep. 1, 2022 | 481079

[FR Doc. 2022-21145 Filed 9-28-22; 8:45 am]

BILLING CODE 9110-12-P